SECURITIES AND EXCHANGE COMMISSION

Sunshine Act Meeting

Federal Register Citation of Previous Announcement: [To be published].

Status: Closed Meeting.

Place: 100 F Street, NE., Washington, DC.

Date and Time of Previously Announced Meeting: Thursday, May 17, 2007 at 9:45 a.m.

Change in the Meeting: Cancellation of Meeting.

The Closed Meeting scheduled for Thursday, May 17, 2007 has been cancelled.

For further information please contact the Office of the Secretary at (202) 551-5400.

Dated: May 17, 2007.
Nancy M. Morris,
Secretary.

[FR Doc. E7-9779 Filed 5-21-07; 8:45 am]

BILLING CODE 8010-01-P